NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On August 29, 2001, the National Science Foundation published a notice in the Federal Register of a permit applications received. Permits were issued on October 3, 2001 to: Vickie Usher Russell, Permit No. 2002-008; Terry J. Wilson, Permit Nos. 2002-009 and -010; Robert A. Blanchette, Permit No. 2002-011; Tom W. Yelvington, Permit No. 2002-012; John T. Lisle, Permit No. 2002-013; Melissa Alexander, Permit No. 2002-014.

Nadene G. Kennedy,
Permit Officer.

[FR Doc. 01-25614 Filed 10-4-01; 8:45 am]

BILLING CODE 7555-01-M